NATIONAL AERONAUTICS AND SPACE ADMINISTRATION

[Notice (21-069)]

Government-Owned Inventions, Available for Licensing

AGENCY: National Aeronautics and Space Administration.

ACTION: Notice of availability of inventions for licensing.

SUMMARY: Patent applications on the invention listed below assigned to the National Aeronautics and Space Administration have been filed in the United States Patent and Trademark Office under the Patent Cooperation Treaty and are available for licensing as listed in the SUPPLEMENTARY INFORMATION below.

SUPPLEMENTARY INFORMATION: Further Information and License Applications: Written applications for licensing of the invention or requests for further information may be submitted to the Licensing Administrator, NASA Johnson Space Center, Technology Transfer Office, Email: Agency-Patent-Licensing@mail.nasa.gov. Questions may be directed to Phone: 202-358-7432.

The following application filed in the United States Patent and Trademark Office under the Patent Cooperation Treaty is available for licensing: NASA Case No.: MSC-26540-1-PCT, “Systems and Methods for Oxygen Concentration with Electrochemical Stacks in Series Gas Flow.”

The patent rights in this invention have been assigned to the United States of America as represented by the Administrator of the National Aeronautics and Space Administration. Any prospective license will comply with the requirements of 35 U.S.C. 209 and 37 CFR part 404.

Information about other NASA inventions available for licensing can be found online at http://technology.nasa.gov.

Helen M. Galus,
Agency Counsel for Intellectual Property.

[FR Doc. 2021-23709 Filed 10-29-21; 8:45 am]

BILLING CODE 7510-13-P